DEPARTMENT OF AGRICULTURE

Forest Service

Proposed New Recreation Fee Sites

AGENCY: Forest Service, Agriculture (USDA).

ACTION: Notice.

SUMMARY: The Shoshone National Forest is proposing to establish multiple new recreation fee sites. Recreation fee revenues collected at the new recreation fee sites would be used for operation, maintenance, and improvement of the sites. An analysis of nearby recreation fee sites with similar amenities shows the recreation fees that would be charged at the new recreation fee sites are reasonable and typical of similar recreation fee sites in the area.

DATES: If approved, the new fees would be implemented no earlier than six months following the publication of this notice in the Federal Register.

ADDRESSES: Shoshone National Forest, 808 Meadow Lane Avenue, Cody, WY 82414.

FOR FURTHER INFORMATION CONTACT: Paul Rau, Outdoor Recreation Planner, 307-250-9317, or paul.rau@usda.gov.

SUPPLEMENTARY INFORMATION: The Federal Lands Recreation Enhancement Act (16 U.S.C. 6803(b)) directs the Secretary of Agriculture to publish a six-month advance notice in the Federal Register of establishment of new recreation fee sites. In accordance with Forest Service Handbook 2309.13, Chapter 30, the Forest Service will publish the proposed new recreation fees for public notice and comment in local newspapers and other local publications. Most of the new recreation fee revenues would be spent where they are collected to enhance the visitor experience at the new recreation fee sites.

An expanded amenity recreation fee of $5 per site per night would be charged at the Aspen Glade, Brown Mountain, Deer Creek, Frye Lake, Hugh Otte, Jack Creek, Lily Lake, Little Popo Agie, Little Sunlight, Warm Springs, and Wood River Campgrounds. An expanded amenity recreation fee of $10 per night would be charged at the Wild Iris Campground. The recreation fee revenues would enhance recreation opportunities, improve customer service, and address maintenance needs. Reservations for the campgrounds could be made online at www.recreation.gov or by calling 877-444-6777. Reservations would cost $8.00 per reservation.

Dated: September 15, 2023.
Jacqueline Emanuel,
Associate Deputy Chief, National Forest System.

[FR Doc. 2023-20415 Filed 9-20-23; 8:45 am]

BILLING CODE 3411-15-P